NUCLEAR REGULATORY COMMISSION

Advisory Committee on Reactor Safeguards; Meeting of the Subcommittee on Digital Instrumentation and Control Systems; Notice of Meeting

The ACRS Subcommittee on Digital Instrumentation and Control Systems will hold a meeting on June 14-15, 2005, Room T-2B1, 11545 Rockville Pike, Rockville, Maryland.

The entire meeting will be open to public attendance.

The agenda for the subject meeting shall be as follows:

Tuesday, June 14, 2005—8:30 a.m. until the close of business.

Wednesday, June 15, 2005—1 p.m. until the close of business.

The purpose of this meeting is to review selected digital instrumentation and control research projects and related matters. The Subcommittee will hear presentations by and hold discussions with representatives of the Office of Nuclear Regulatory Research and other interested persons regarding this matter. The Subcommittee will gather information, analyze relevant issues and facts, and formulate proposed positions and actions, as appropriate, for deliberation by the full Committee.

Members of the public desiring to provide oral statements and/or written comments should notify the Designated Federal Official, Mr. Michael R. Snodderly (telephone 301-415-6927) or the Cognizant Staff Engineer, Mr. Eric A. Thornsbury (telephone 301-415-8716), five days prior to the meeting, if possible, so that appropriate arrangements can be made. Electronic recordings will be permitted.

Further information regarding this meeting can be obtained by contacting the Designated Federal Official or the Cognizant Staff Engineer between 7:30 a.m. and 4:15 p.m. (e.t). Persons planning to attend this meeting are urged to contact one of the above named individuals at least two working days prior to the meeting to be advised of any potential changes to the agenda.

Dated: May 24, 2005.
Michael L Scott,
Branch Chief, ACRS/ACNW.

[FR Doc. E5-2735 Filed 5-27-05; 8:45 am]

BILLING CODE 7590-01-P